INTERNATIONAL TRADE COMMISSION

[Investigation No. 731-TA-853 (Final)]

Certain Structural Steel Beams From Japan

Determination

On the basis of the record ¹ developed in the subject investigation, the United States International Trade Commission determines, pursuant to section 735(b) of the Tariff Act of 1930 (19 U.S.C. 1673d(b)) (the Act), that an industry in the United States is materially injured ² or threatened with material injury³ by reason of imports from Japan of certain structural steel beams, provided for in subheadings 7216.32.00, 7216.33.00, 7216.50.00, 7216.61.00, 7216.69.00, 7216.91.00, 7216.99.00, 7228.70.30, and 7228.70.60 of the Harmonized Tariff Schedule of the United States, that have been found by the Department of Commerce to be sold in the United States at less than fair value (LTFV).

¹ The record is defined in sec. 207.2(f) of the Commission's Rules of Practice and Procedure (19 CFR § 207.2(f)).

² Vice Chairman Miller and Commissioners Hillman and Okun determine that an industry in the United States is materially injured.

³ Chairman Bragg and Commissioners Askey and Koplan determine that an industry in the United States is threatened with material injury. Further, Chairman Bragg and Commissioners Askey and Koplan determine, under section 735(b)(4)(B) of the Act (19 U.S.C. 1673d(b)(4)(B)), that they would not have made affirmative material injury determinations but for the suspension of liquidation.

Background

The Commission instituted this investigation effective July 7, 1999, following receipt of a petition filed with the Commission and the Department of Commerce by Northwestern Steel & Wire Co., Sterling, IL; Nucor-Yamato Steel Co., Blytheville, AR; TXI-Chaparral Steel Co., Midlothian, TX; and The United Steelworkers of America AFL-CIO. The final phase of the investigation was scheduled by the Commission following notification of a preliminary determination by the Department of Commerce that imports of certain structural steel beams from Japan were being sold at LTFV within the meaning of section 733(b) of the Act (19 U.S.C. 1673b(b)). Notice of the scheduling of the Commission's investigation and of a public hearing to be held in connection therewith was given by posting copies of the notice in the Office of the Secretary, U.S. International Trade Commission, Washington, DC, and by publishing the notice in the Federal Register of March 1, 2000 (65 FR 11092). The hearing was held in Washington, DC, on April 25, 2000, and all persons who requested the opportunity were permitted to appear in person or by counsel.

The Commission transmitted its determination in this investigation to the Secretary of Commerce on June 9, 2000. The views of the Commission are contained in USITC Publication 3308 (June 2000), entitled Certain Structural Steel Beams from Japan: Investigation No. 731-TA-853 (Final).

By order of the Commission.
Issued: June 13, 2000.
Donna R. Koehnke,
Secretary.

[FR Doc. 00-15384 Filed 6-16-00; 8:45 am]

BILLING CODE 7020-02-P